DEPARTMENT OF COMMERCE

National Oceanic and Atmospheric Administration

50 CFR Part 622

[I.D. 021607G]

Gulf of Mexico Fishery Management Council; Public Meetings

AGENCY: National Marine Fisheries Service (NMFS), National Oceanic and Atmospheric Administration (NOAA), Commerce.

ACTION: Notice of public meeting.

SUMMARY: The Gulf of Mexico Fishery Management Council (Council) will convene the Law Enforcement Advisory Panel (LEAP) to review a revised Draft Joint Amendment 27 to the Reef Fish Fishery Management Plan (FMP)/Amendment 14 to the Shrimp FMP. This amendment contains alternatives to regulate the harvest and bycatch of red snapper by both the directed commercial and recreational fisheries and the shrimp fishery in the Gulf of Mexico. The need for this amendment arose from the Southeast Data, Assessment and Review (SEDAR) process through which a recent stock assessment showed that the red snapper stock in the Gulf was overfished and overfishing was continuing.

DATES: The meeting will be held on Tuesday, March 13, 2007 from 1 p.m. to 5 p.m.

ADDRESSES: The meeting will be held at the Beau Rivage Resort and Casino, 875 Beach Boulevard, Biloxi, Mississippi, 888-383-7037.

Council address: Gulf of Mexico Fishery Management Council, 2203 North Lois Avenue, Suite 1100, Tampa, Florida 33607.

FOR FURTHER INFORMATION CONTACT: Dr. Richard Leard, Deputy Executive Director, Gulf of Mexico Fishery Management Council; telephone: 813-348-1630.

SUPPLEMENTARY INFORMATION: The LEAP will review a scoping document for a potential amendment to address the need for additional management measures for gray triggerfish, greater amberjack, gag, and red grouper. The LEAP will discuss enforcement implications of the potential implementation of a fish-tagging program for stocks managed under individual fishing quotas (IFQs) such as red snapper and the potential use of a Federal fish stamp to identify recreational fishermen fishing in the exclusive economic zone (EEZ). Finally, the LEAP will discuss any enforcement problems and successes of the recently implemented IFQ program for red snapper and review the status of various FMP amendments and other regulatory actions previously approved by the Council.

The LEAP consists of principal law enforcement officers in each of the Gulf States, as well as the NMFS, U.S. Fish and Wildlife Service (FWS), the U.S. Coast Guard, and the National Oceanic and Atmospheric Administration's (NOAA) General Counsel. A copy of the agenda and related materials can be obtained by calling the Council office at 813-348-1630.

Although other non-emergency issues not on the agendas may come before the LEAP for discussion, in accordance with the Magnuson-Stevens Fishery Conservation and Management Act (M-SFCMA), those issues may not be the subject of formal action during this meeting. Actions of the LEAP will be restricted to those issues specifically identified in the agendas and any issues arising after publication of this notice that require emergency action under Section 305(c) of the M-SFCMA, provided the public has been notified of the Council's intent to take action to address the emergency.

These meetings are physically accessible to people with disabilities. Requests for sign language interpretation or other auxiliary aids should be directed to Tina Trezza at the Council (see ADDRESSES) five working days prior to the meeting.

Dated: February 20, 2007.
James P. Burgess,
Acting Director, Office of Sustainable Fisheries, National Marine Fisheries Service.

[FR Doc. E7-3244 Filed 2-23-07; 8:45 am]

BILLING CODE 3510-22-S